DEPARTMENT OF ENERGY

Federal Energy Regulatory Commission

Combined Notice of Filings #1

Take notice that the Commission received the following electric rate filings:

Docket Numbers: ER11-3594-001.

Applicants: City of Anaheim, California.

Description: Offer of Settlement and Settlement Agreement to be effective 7/1/2011.

Filed Date: 11/09/2011.

Accession Number: 20111109-5163.

Comment Date: 5 p.m. ET on 11/30/2011.

Docket Numbers: ER11-4287-000.

Applicants: Michigan Electric Transmission Company.

Description: Filing of a Refund Report to be effective N/A.

Filed Date: 11/09/2011.

Accession Number: 20111109-5185.

Comment Date: 5 p.m. ET on 11/30/2011.

Docket Numbers: ER11-4347-000.

Applicants: ITC Midwest LLC.

Description: Filing of a Refund Report to be effective N/A.

Filed Date: 11/09/2011.

Accession Number: 20111109-5191.

Comment Date: 5 p.m. ET on 11/30/2011.

Docket Numbers: ER11-4405-001.

Applicants: Southwest Power Pool, Inc.

Description: Compliance Revisions Modifying Appendix 3 of 1876R1 KEPCO NITSA NOA to be effective 8/1/2011.

Filed Date: 11/09/2011.

Accession Number: 20111109-5063.

Comment Date: 5 p.m. ET on 11/30/2011.

Docket Numbers: ER11-4665-001.

Applicants: North Branch Resources, LLC.

Description: Supplement to Category 1 Status Request to be effective 11/9/2011.

Filed Date: 11/09/2011.

Accession Number: 20111109-5138.

Comment Date: 5 p.m. ET on 11/30/2011.

Docket Numbers: ER12-366-000.

Applicants: Vision Power, LLC.

Description: Vision Power, LLC reports no wholesales of electric energy and energy transactions.

Filed Date: 11/07/2011.

Accession Number: 20111109-0201.

Comment Date: 5 p.m. ET on 11/28/2011.

Docket Numbers: ER12-367-000.

Applicants: Niagara Mohawk Power Corporation.

Description: Phase-In Agreement, Niagara Mohawk Rate Schedule No. 500 to be effective 11/10/2011.

Filed Date: 11/09/2011.

Accession Number: 20111109-5054.

Comment Date: 5 p.m. ET on 11/30/2011.

Docket Numbers: ER12-368-000.

Applicants: ITC Midwest LLC.

Description: ITC Midwest LLC submits tariff filing per 35.13(a)(2)(iii: Filing of an Amended Agreement to be effective 1/20/2012.

Filed Date: 11/09/2011.

Accession Number: 20111109-5139.

Comment Date: 5 p.m. ET on 11/30/2011.

Docket Numbers: ER12-369-000.

Applicants: Midwest Independent Transmission System Operator, Inc.

Description: Cancellation of ATSI-First Energy IA, SA 1509 to be effective 6/1/2011.

Filed Date: 11/09/2011.

Accession Number: 20111109-5146.

Comment Date: 5 p.m. ET on 11/30/2011.

Docket Numbers: ER12-370-000.

Applicants: Puget Sound Energy, Inc.

Description: Network Transmission Agreements to be effective 10/1/2011.

Filed Date: 11/09/2011.

Accession Number: 20111109-5156.

Comment Date: 5 p.m. ET on 11/30/2011.

Docket Numbers: ER12-371-000.

Applicants: Puget Sound Energy, Inc.

Description: Network Operating Agreements to be effective 10/1/2011.

Filed Date: 11/09/2011.

Accession Number: 20111109-5162.

Comment Date: 5 p.m. ET on 11/30/2011.

Docket Numbers: ER12-372-000.

Applicants: ITC Midwest LLC.

Description: Filing of a Relocation Agreement to be effective 1/10/2012.

Filed Date: 11/09/2011.

Accession Number: 20111109-5179.

Comment Date: 5 p.m. ET on 11/30/2011.

Docket Numbers: ER12-373-000.

Applicants: Pennsylvania Electric Company.

Description: Cancel Duplicate Records to be effective 11/9/2011.

Filed Date: 11/09/2011.

Accession Number: 20111109-5180.

Comment Date: 5 p.m. ET on 11/30/2011.

Docket Numbers: ER12-374-000.

Applicants: Pennsylvania Electric Company.

Description: Revision to Correctly Label Ancillary Services to be effective 4/20/2011.

Filed Date: 11/09/2011.

Accession Number: 20111109-5181.

Comment Date: 5 p.m. ET on 11/30/2011.

Docket Numbers: ER12-375-000.

Applicants: Southern California Edison Company.

Description: True-Up SGIA WDAT SERV AG SCE-GBU 1466 Merrill Ave Rialto Roof Top Solar Project to be effective 1/10/2012.

Filed Date: 11/10/2011.

Accession Number: 20111110-5001.

Comment Date: 5 p.m. ET on 12/1/2011.

Docket Numbers: ER12-376-000.

Applicants: Midwest Independent Transmission System Operator, Inc.

Description: Midwest Independent Transmission System Operator, Inc. filing to cancel various Service Agreements of ATSI/FirstEnergy.

Filed Date: 11/09/2011.

Accession Number: 20111109-5208.

Comment Date: 5 p.m. ET on 11/30/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2011.
Nathaniel J. Davis, Sr.,
Deputy Secretary.

[FR Doc. 2011-29923 Filed 11-18-11; 8:45 am]

BILLING CODE 6717-01-P